DEPARTMENT OF HOMELAND SECURITY

Federal Emergency Management Agency

[Docket ID FEMA-2010-0037]

Hazardous Fire Risk Reduction, East Bay Hills, CA

AGENCY: Federal Emergency Management Agency, DHS.

ACTION: Notice of intent to prepare an Environmental Impact Statement.

SUMMARY: The Federal Emergency Management Agency (FEMA) intends to prepare an environmental impact statement evaluating the environmental impacts of funding a combination of hazardous fuel reduction projects within the East Bay Hills area in Alameda and Contra Costa Counties, California. The projects may be funded through Federal assistance grants under the Pre-Disaster Mitigation (PDM) and Hazard Mitigation Grant Program (HMGP).

DATES: Comments must be submitted by July 12, 2010.

ADDRESSES: You may submit comments, identified by Docket ID FEMA-2010-0037, by one of the following methods:

Federal eRulemaking Portal: http://www.regulations.gov. Search for Docket ID FEMA-2010-0037 and follow the instructions for submitting comments.

Fax: 703-483-2999.

Mail/Hand Delivery/Courier: Office of Chief Counsel, Federal Emergency Management Agency, 500 C Street, SW., Room 835, Washington, DC 20472-3100.

Instructions: All submissions received must include the agency name and Docket ID. Regardless of the method used for submitting comments or material, all submissions will be posted, without change, to the Federal eRulemaking Portal at http://www.regulations.gov, and will include any personal information you provide. Therefore, submitting this information makes it public. You may wish to read the Privacy Act notice that is available via a link in the footer of http://www.regulations.gov.

Docket: For access to the docket for this notice or comments submitted by the public on this notice, go to the Federal eRulemaking Portal at http://www.regulations.gov and search for docket ID FEMA-2010-0037. These documents may also be inspected at FEMA, Office of Chief Counsel, Room 835, 500 C Street, SW., Washington, DC 20472-3100.

FOR FURTHER INFORMATION CONTACT: Alessandro Amaglio, Regional Environmental Officer, Region IX, FEMA, 1111 Broadway, Suite 1200, Oakland, CA 94607-4052 and phone number at (510) 627-7027.

SUPPLEMENTARY INFORMATION: Section 102(2)(C) of the National Environmental Policy Act of 1969 (NEPA), the Council on Environmental Quality (CEQ) regulations implementing NEPA, and FEMA's Environmental Considerations regulations require the preparation of an environmental impact statement (EIS) for major Federal actions that would have significant impacts on the quality of the human environment. The CEQ regulations at 40 CFR 1501.7 require the issuance of a notice of intent to prepare an EIS to initiate the scoping process. Scoping is an early and open process that assists the Federal action agency in determining the scope of issues to be addressed and for identifying significant issues related to a proposed action.

FEMA has received four hazard mitigation applications for fuel reduction projects in the East Bay Hills area in California. The proposed action is to fund these four projects under section 404 of the Robert T. Stafford Disaster Relief and Emergency Assistance Act (Stafford Act), Public Law 93-288, as amended, establishing the Hazard Mitigation Grant Program (HMGP) and Section 203 of the Stafford Act, establishing the Pre-Disaster Mitigation (PDM) grant program. The Strawberry Canyon Vegetation Management Project involves the removal of eucalyptus and other exotic-non native trees in a 60-acre area, chipping the downed trees and scattering the chips in portions of the cleared area, and the semiannual application of herbicides, as needed, to eradicate eucalyptus tree sprouts from the area. The Claremont Canyon Vegetation Management Project involves the removal of eucalyptus, Monterey pine, and acacia trees in a 45-acre area, chipping the downed trees and scattering the chips in portions of the cleared area, and the semiannual application of herbicides, as needed, to eradicate eucalyptus tree sprouts from the area. The City of Oakland's project involves thinning and eradication techniques within 325 acres. The East Bay Regional Park District project involves the treatment of 590 acres to reduce fuel load through brush removal (mechanical and hand), chemical treatment, limbing and mowing, thinning, and grazing techniques as appropriate to reduce the risk of fire hazard. These projects would affect approximately 980 acres of the Wildland-Urban Interface in the East Bay Hills running from Lake Chabot to Wildcat Canyon and Sobrante Ridge, encompassing both Alameda and Contra Costa Counties.

In January 2008, FEMA published a notice of availability of a draft environmental assessment for the Strawberry Canyon Vegetation Management Project for public comment. The draft environmental assessment can be found at FEMA's Web page http://www.fema.gov/library/viewRecord.do?id=3111. The public involvement process revealed concerns regarding the effectiveness and scope of the vegetation removal methodologies and application of wood chips in portions of the area, impacts to plant and animal species in the area, and concerns regarding cumulative impacts of all projects in the area. FEMA has determined that an EIS should be conducted to address cumulatively the Vegetation Management Projects for the Strawberry Canyon as well as the Claremont Canyon, and the ones proposed by the City of Oakland and the East Bay Regional Park District.

In addition to the proposed action, FEMA is considering the following alternatives:

(1) No action, which involves denying the grant applications;

(2) Funding the grant applications with conditions to address their environmental impacts;

(3) Funding the grant applications with fuel reduction methodologies that are different than as proposed by the applicants; and

(4) Partially funding the grant applications, including funding some grant projects and denying others.

FEMA plans to conduct public scoping meetings during July 2010. FEMA will provide notices of the time and place of the meetings through local news media.

Authority: 42 U.S.C. 4331 et seq.; 40 CFR part 1500; 44 CFR part 10.

W. Craig Fugate,
Administrator, Federal Emergency Management Agency.

[FR Doc. 2010-13926 Filed 6-9-10; 8:45 am]

BILLING CODE 9119-19-P